DEPARTMENT OF HEALTH AND HUMAN SERVICES

National Institutes of Health

National Institute of Biomedical Imaging and Bioengineering; Notice of Closed Meeting

Pursuant to section 10(d) of the Federal Advisory Committee Act, as amended (5 U.S.C. App.), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Biomedical Imaging and Bioengineering Special Emphasis Panel,Biomed—ISS.

Date: January 18, 2012.

Time: 11 a.m. to 2 p.m.

Agenda: To review and evaluate grant applications.

Place: National Institutes of Health, Democracy II, 6707 Democracy Blvd. 900, Bethesda, MD 20892,(Telephone Conference Call).

Contact Person: Ruth Grossman, DDS, Scientific Review Officer, National Institute of Biomedical Imagin and Bioengineering, National Institutes of Health,6707 Democracy Boulevard, Rm. 960, Bethesda, MD 20892,(301) 496-8775, grossmanrs@mail.nih.gov.

Name of Committee: National Institute of Biomedical Imaging and Bioengineering Special Emphasis Panel,2012 P41 Reverse Site Visit.

Date: February 26-27, 2012.

Time: 6 p.m. to 9 p.m.

Agenda: To review and evaluate grant applications.

Place: Hyatt Regency Bethesda, One Bethesda Metro Station, Bethesda, MD 20814.

Contact Person: Ruth Grossman, DDS, Scientific Review Officer, National Institute of Biomedical Imagin and Bioengineering, National Institutes of Health,6707 Democracy Boulevard, Rm. 960, Bethesda, MD 20892,(301) 496-8775, grossmanrs@mail.nih.gov.

Name of Committee: National Institute of Biomedical Imaging and Bioengineering Special Emphasis Panel,2012 P41 Site Visit.

Date: March 28-30, 2012.

Time: 6 p.m. to 12 p.m.

Agenda: To review and evaluate grant applications.

Place: InterContinental Chicago, 505 North Michigan Avenue, Chicago, IL.

Contact Person: Ruth Grossman, DDS, Scientific Review Officer, National Institute of Biomedical Imagin and Bioengineering, National Institutes of Health,6707 Democracy Boulevard, Rm. 960, Bethesda, MD 20892,(301) 496-8775, grossmanrs@mail.nih.gov.

Dated: November 2, 2011.
Jennifer Spaeth,
Director, Office of Federal Advisory Committee Policy.

[FR Doc. 2011-28956 Filed 11-8-11; 8:45 am]

BILLING CODE 4140-01-P